DEPARTMENT OF LABOR

Employment and Training Administration

[TA-W-65,048]

United Machine Works, Inc., Greenville, NC; Notice of Termination of Investigation

Pursuant to Section 221 of the Trade Act of 1974, as amended, an investigation was initiated on January 30, 2009 in response to a petition filed by three workers on behalf of United Machine Works, Inc., Greenville, North Carolina.

The petitioners have requested that the petition be withdrawn. Consequently, the investigation has been terminated.

Signed at Washington, DC, this 25th day of March 2009.
Richard Church,
Certifying Officer, Division of Trade Adjustment Assistance.

[FR Doc. E9-8277 Filed 4-10-09; 8:45 am]

BILLING CODE 4510-FN-P